SECURITIES AND EXCHANGE COMMISSION

[Release No. 34-65468A; File No. SR-NYSEArca-2011-51]

Self-Regulatory Organizations; NYSE Arca, Inc.; Order Granting Approval of Proposed Rule Change to List and Trade Managed Fund Shares of TrimTabs Float Shrink ETF under NYSE Arca Equities Rule 8.600; Correction

November 1, 2011.

AGENCY: Securities and Exchange Commission.

ACTION: Order; correction.

SUMMARY: On October 11, 2011, the Securities and Exchange Commission published an Order Granting Approval of Proposed Rule Change to List and Trade Managed Fund Shares of TrimTabs Float Shrink ETF under NYSE Arca Equities Rule 8.600 (“Notice”) in the Federal Register. The Order, in the second-to-last sentence of the introductory paragraph, contained the phrase “[CONFIRM]” which should have been deleted.

FOR FURTHER INFORMATION CONTACT: Kristie Diemer, Division of Trading and Markets, Securities and Exchange Commission, 100 F Street NE., Washington, DC 20549, (202) 551-5613.

Correction

In the Federal Register dated October 11, 2011, in FR Doc. 2011-26135, on page 62874, the second-to-last sentence of the introductory paragraph is corrected to read as follows:

“The Commission received no comments on the proposal.”

Kevin O'Neill,
Deputy Secretary.

[FR Doc. 2011-28609 Filed 11-3-11; 8:45 am]

BILLING CODE 8011-01-P